DEPARTMENT OF THE TREASURY

Internal Revenue Service

26 CFR Part 1

[TD 9324]

RIN 1545-BF04

Designated Roth Accounts Under Section 402A; Correction

AGENCY: Internal Revenue Service (IRS), Treasury.

ACTION: Correcting amendments.

SUMMARY: This document contains corrections to final regulations (TD 9324) that were published in the Federal Register on Monday, April 30, 2007 (72 FR 21103) providing guidance concerning the taxation of distributions from designated Roth accounts under qualified cash or deferred arrangments under section 401(k).

DATES: The correction is effective June 5, 2007.

FOR FURTHER INFORMATION CONTACT: R. Lisa Mojiri-Azad or William D. Gibbs at 202-622-6060, or Cathy A. Vohs, 202-622-6090 (not toll-free numbers).

SUPPLEMENTARY INFORMATION:

Background

The final regulations that are the subject of this correction are under sections 401(k), 402(g), 402A, and 408A of the Internal Revenue Code.

Need for Correction

As published, final regulations (TD 9324) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.402A-1 is amended by revising the first sentence of Example. of A-8.(b) to read as follows:

§ 1.402A-1 Designated Roth Accounts.

* * * * *

A-8. * * *

(b) * * *

Example. The facts are the same as in the Example in A-7 of this section, except that instead of being disabled, Employee C is receiving a hardship distribution. * * *

* * * * *

Par. 3. Section 1.402A-2 is amended by revising paragraph (2) of A-2.(a) to read as follows:

§ 1.402A-2 Reporting and recordkeeping requirements with respect to designated Roth accounts.

* * * * *

A-2. * * *

(a) * * *

(2) If the distribution is not a direct rollover to a designated Roth account under another plan, the plan administrator or responsible party must provide to the employee, upon request, the same information described in paragraph (a)(1) of this A-2, except the statement need not indicate the first year of the 5-taxable-year period described in A-1 of this section.

* * * * *

LaNita Van Dyke,
Chief, Publications and Regulations Branch, Legal Processing Division, Associate Chief Counsel (Procedure and Administration).

[FR Doc. E7-10802 Filed 6-4-07; 8:45 am]

BILLING CODE 4830-01-P